ENVIRONMENTAL PROTECTION AGENCY

[ER-FRL-9037-3]

Environmental Impact Statements; Notice of Availability

Responsible Agency: Office of Federal Activities, General Information (202) 564-7146 or http://www2.epa.gov/nepa/.

Weekly receipt of Environmental Impact Statements

Filed 01/15/2018 Through 01/19/2018

Pursuant to 40 CFR 1506.9

Notice

Section 309(a) of the Clean Air Act requires that EPA make public its comments on EISs issued by other Federal agencies. EPA's comment letters on EISs are available at: https://cdxnodengn.epa.gov/cdx-nepa-public/action/eis/search.

EIS No. 20180006, Draft, BLM, WY, Converse County Oil and Gas Project Draft EIS, Comment Period Ends: 03/12/2018, Contact: Mike Robinson (307) 261-7520

EIS No. 20180007, Draft, USFS, CO, Berlaimont Estates Road Improvement Project, Comment Period Ends: 03/12/2018, Contact: Matthew Klein 941-400-4452

EIS No. 20180008, Final, BLM, CA, Abbreviated Final Environmental Impact Statement Proposed Land Exchange between Bureau of Land Management and Agua Caliente Band of Cahuilla Indians, Review Period Ends: 03/12/2018, Contact: Ashley Adams 760-833-7100

Dated: January 22, 2018.
Kelly Knight,
Director, NEPA Compliance Division, Office of Federal Activities.

[FR Doc. 2018-01391 Filed 1-25-18; 8:45 am]

BILLING CODE 6560-50-P